DEPARTMENT OF TRANSPORTATION

Federal Aviation Administration

Weight and Balance Control Program Committee

AGENCY: Federal Aviation Administration (FAA), DOT.

ACTION: Notice of request for participation on industry advisory committee (IAC) formation.

SUMMARY: By this notice, the FAA announces the formation of an advisory committee to conduct a comprehensive review and rewrite of Advisory Circular (AC) 120-27C, Aircraft Weight and Balance Control, and other related guidance. The FAA will establish a Weight and Balance Control Program Aviation Rulemaking Committee (ARC) to conduct this review and provide advice and recommendations.

The FAA invites individuals interested in serving on this committee and/or associated work groups to request membership in accordance with this notice. The FAA will select members to provide a balance of viewpoints, interests, and expertise. Membership on the committee may be limited to facilitate discussions and to maintain a balance of interests.

In addition, the FAA invites interested individuals to submit specific, detailed written comments, or provide input on the affected advisory and guidance documents. These comments will be considered in the committee discussions and will assist in determining a method of compliance with regard to the weight and balance control program.

DATES: Membership: Individuals interested in participating on the committee or work group should submit a request on or before June 6, 2003. The FAA will notify all selected members and participants in writing in advance of the first meeting. Your request should provide the following information:

—Contact information (name, company and position, address, phone, facsimile, and e-mail)

—Segment(s) of the industry or organization/association you represent

—Experience, subject expertise, or other background information

The first meeting of the Weight and Balance Control Program ARC is scheduled for June 24 and 25, 2003 in Washington, DC. The committee will report its recommendations to the Associate Administrator for Regulation and Certification through the Director, flight Standards, no later than 6 months from the date of the first meeting. Work groups will be scheduled as determined by the steering committee and work group members to provide information and meet schedule requirements.

Comments: The FAA will consider all comments on this advisory and regulatory review filed on or before June 24, 2003. The FAA will consider comments filed later if it is possible to do so without incurring expense or delay.

ADDRESSES: Membership: Individuals requesting membership or participation on the Weight and Balance Control Program ARC and/or work groups should contact Darcy Reed, AFS-330, 800 Independence Ave., SW., Washington, DC 20591, telephone at (202) 267-9948, facsimile at (202) 267-5115, or by e-mail: Darcy.D.Reed@FAA.GOV, or contact Dennis Pratte, AFS-220, 800 Independence Ave., SW., Washington, DC, 20591, telephone at (202) 267-5488, facsimile at (202) 267-5229, or by e-mail: Dennis.Pratte@FAA.GOV.

Comments: Address your comments to the Docket Management System, U.S. Department of Transportation, Room Plaza 401, 400 Seventh Street, SW., Washington, DC 20590-001. You must identify docket number FAA-2003-XXXXX at the beginning of your comments, and you should submit two copies of your comments. If you wish to receive confirmation that the FAA received your comments, include a self-addressed, stamped postcard on which the docket number appears. We will stamp the date on the postcard and mail it to you.

You may also submit and/or review comments about this public docket through the Internet at http://dms.dot.gov/. You may review the public docket containing comments to this proposed guidance in person in the Dockets Office between 9 a.m. and 5 p.m., Monday through Friday, except Federal holidays. the Dockets Office is on the plaza level of the NASSIF Building at the Department of Transportation at the above address.

FOR FURTHER INFORMATION CONTACT: Darcy Reed, AFS-330, or Dennis Pratte, AFS-220, at the address above.

SUPPLEMENTARY INFORMATION: Additional information on the committee membership, dates , and other information may be obtained on the Flight Standards Web site under the heading “Weight and Balance Control Program Aviation Rulemaking Committee” at: http://www.faa.gov/avr/afs/AvgARC/.

Issued in Washington, DC on May 21, 2003.
David E. Cann,
Air Maintenance Division, Flight Standards Service.

[FR Doc. 03-13243 Filed 5-27-03; 8:45 am]

BILLING CODE 4910-13-M